NATIONAL SCIENCE FOUNDATION

Proposal Review Panel for Materials Research; Notice of Meeting

In accordance with the Federal Advisory Committee Act (Pub. L. 92-463 as amended), the National Science Foundation announces the following meeting:

Name: Review of the Partnership for Research and Education in Materials (PREM) at Howard University, Washington, DC (#1203) 1205608—Site Visit.

Dates & Times: October 20, 2014; 7:45 a.m.-9:00 p.m. October 21, 2014; 8:00 a.m.-3:30 p.m.

Place: Howard University, Washington, DC.

Type of Meeting: Part-open.

Contact Person: Dr. Charles Bouldin, Program Director, Partnerships for Research and Education in Materials Program, Division of Materials Research, Room 1065, National Science Foundation, 4201 Wilson Boulevard, Arlington, VA 22230, Telephone (703) 292-4914.

Purpose of Meeting: NSF site visit to provide advice and recommendations concerning further support of the PREM at Howard University, Washington, DC.

Agenda:

October 20, 2014

7:45 a.m.-9:00 a.m. Closed—Executive Session

9:00 a.m.-4:00 p.m. Open—Review of the Howard PREM

4:00 p.m.-6:00 p.m. Closed—Executive Session

6:00 p.m.-9:00 p.m. Open—Poster Session and Dinner

October 21, 2014

8:00 a.m.-9:00 a.m. Closed—Executive Session

9:00 a.m.-10:00 a.m. Open—Review of the Howard PREM

10:00 a.m.-3:30 p.m. Closed—Executive Session, Draft and Review Report

Reason for Closing: The work being reviewed during the site visit may include information of a proprietary or confidential nature, including technical information; financial data, such as salaries and personal information concerning individuals associated with the proposals. These matters are exempt under 5 U.S.C. 552b(c), (4) and (6) of the Government in the Sunshine Act.

Dated: September 16, 2014.
Crystal Robinson,
Acting, Committee Management Officer.

[FR Doc. 2014-22471 Filed 9-19-14; 8:45 am]

BILLING CODE 7555-01-M